DEPARTMENT OF THE INTERIOR

Fish and Wildlife Service

Notice of Receipt of Application for Approval

The following applicant has applied for approval to conduct certain activities with birds that are protected under the Wild Bird Conservation Act of 1992. This notice is provided under Section 112, paragraph 4, of the Wild Bird Conservation Act of 1992, and Title 50, of the Code of Federal Regulations, Section 15.26(c).

Applicant: Jeanette Rilling, Kintnersville, PA. The applicant wishes to establish a cooperative breeding program for the Red-crested cardinal (Paroaria coronata) and the Yellow-billed cardinal (Paroaria capitata). The applicant wishes to be an active participant in this program with four other private individuals and two zoological organizations. The American Federation of Aviculture Inc. has assumed the responsibility for the oversight of the program.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of these documents to the following office within 30 days of the date of publication of this notice: U.S. Fish and Wildlife Service, Office of Management Authority, 4401 North Fairfax Drive, Room 700, Arlington, Virginia 22203. Phone: (703/358-2095); FAX: (703/358-2298).

Dated: April 10, 2000.
Mark Phillips,
Acting Chief, Branch of Operation, Office of Management Authority.

[FR Doc. 00-9231 Filed 4-12-00; 8:45 am]

BILLING CODE 4310-55-P